CORPORATION FOR NATIONAL AND COMMUNITY SERVICE

Information Collection; Submission for OMB Review, Comment Request

AGENCY: Corporation for National and Community Service.

ACTION: Notice.

SUMMARY: The Corporation for National and Community Service (CNCS) has submitted a public information collection request (ICR) entitled Senior Corps RSVP Notice Of Funding Opportunity Non-applicant Survey for review and approval in accordance with the Paperwork Reduction Act of 1995, Public Law 104-13, (44 U.S.C. Chapter 35). Copies of this ICR, with applicable supporting documentation, may be obtained by calling the Corporation for National and Community Service, Anthony Nerino, at 202-606-3913 or email to anerino@cns.gov. Individuals who use a telecommunications device for the deaf (TTY-TDD) may call 1-800-833-3722 between 8:00 a.m. and 8:00 p.m. Eastern Time, Monday through Friday.

ADDRESSES: Comments may be submitted, identified by the title of the information collection activity, to the Office of Information and Regulatory Affairs, Attn: Ms. Sharon Mar, OMB Desk Officer for the Corporation for National and Community Service, by any of the following two methods within 30 days from the date of publication in the Federal Register:

(1) By fax to: 202-395-6974, Attention: Ms. Sharon Mar, OMB Desk Officer for the Corporation for National and Community Service; or

(2) By email to: smar@omb.eop.gov.

SUPPLEMENTARY INFORMATION: The OMB is particularly interested in comments which:

• Evaluate whether the proposed collection of information is necessary for the proper performance of the functions of CNCS, including whether the information will have practical utility;

• Evaluate the accuracy of the agency's estimate of the burden of the proposed collection of information, including the validity of the methodology and assumptions used;

• Propose ways to enhance the quality, utility, and clarity of the information to be collected; and

• Propose ways to minimize the burden of the collection of information on those who are to respond, including through the use of appropriate automated, electronic, mechanical, or other technological collection techniques or other forms of information technology.

Comments

A 60-day Notice requesting public comment was published in the Federal Register on January 3, 2014. This comment period ended March 4, 2014. No public comments were received from this Notice.

Description: CNCS is seeking approval of Senior Corps RSVP Notice Of Funding Opportunity Non-applicant Survey, which is used by individuals representing organizations, non-profits, and public agencies that are: (1) Current successful applicants, (2) current unsuccessful applicants, (3) non-applicants who submitted letters of intent and (4) potential applicants for the RSVP Notice of Funding Opportunity. The purpose of survey is to understand how grantees and potential grantees view the application process, what factors are important in the decision to apply, and how the NOFO can be written to generate a higher response rate from potential grant applicants.

Type of Review: New.

Agency: Corporation for National and Community Service.

Title: Senior Corps RSVP Notice Of Funding Opportunity Non-applicant Survey.

OMB Number: TBD.

Agency Number: None.

Affected Public: Individuals who represent organizations, non-profits, and public agencies that are current and potential Senior Corps RSVP applicants.

Total Respondents: 300.

Frequency: One time.

Average Time per Response: 20 minutes.

Estimated Total Burden Hours: 100 hours.

Total Burden Cost (capital/startup): None.

Total Burden Cost (operating/maintenance): None.

Dated: March 20, 2014.
Angela Roberts,
Associate Director, Senior Corps.

[FR Doc. 2014-06684 Filed 3-25-14; 8:45 am]

BILLING CODE 6050-28-P